OFFICE OF THE UNITED STATES TRADE REPRESENTATIVE

Generalized System of Preferences (GSP): Request for Public Comments on the Possible Withdrawal, Suspension, or Limitation of GSP Benefits with Respect to Bangladesh

AGENCY: Office of the United States Trade Representative (USTR).

ACTION: Request for public comments.

SUMMARY: As part of an ongoing country practice review, the GSP Subcommittee of the Trade Policy Staff Committee (TPSC) is considering whether to recommend that duty-free treatment accorded to imports from Bangladesh under the U.S. GSP program be withdrawn, suspended, or limited on the grounds that Bangladesh has not implemented long-standing commitments to the United States to allow its national labor law to be applied in its Export Processing Zones (EPZs). The GSP Subcommittee is seeking public comments on which products of Bangladesh should no longer be eligible for GSP duty-free treatment if the Subcommittee decides to recommend limiting Bangladesh's GSP benefits. All Public comments must be received by May 12, 2004.

FOR FURTHER INFORMATION CONTACT: GSP Subcommittee, Office of the United States Trade Representative, USTR Annex, 1724 F Street, NW., Room F220, Washington, DC 20508 (Tel. 202-395-6971). Public versions of all documents relating to this review are available for public inspection by appointment in the USTR public reading room (Tel. 202-395-6186).

SUPPLEMENTARY INFORMATION: The GSP program is authorized pursuant to Title V of the Trade Act of 1974, as amended (“the Trade Act”) (19 U.S.C. 2461 et seq.). The GSP program grants duty-free treatment to designated eligible articles that are imported from designated beneficiary developing countries. Once granted, GSP benefits may be withdrawn, suspended, or limited by the President with respect to any country. (19 U.S.C. 2462(d)(1)). Bangladesh is a designated beneficiary developing country under the GSP program. The Annex to this Notice lists currently GSP-eligible tariff items from the U.S. Harmonized Tariff Schedule (HTS) in which there were imports under GSP from Bangladesh during 2003.

I. Possible Withdrawal, Suspension, or Limitation of GSP Benefits for Bangladesh

The Government of Bangladesh does not provide freedom of association or the right to collective bargaining to workers in its EPZs. Among other commitments, Bangladesh had published a notice on January 1, 2001, stating that it would extend these rights to EPZs as of January 1, 2004. However, Bangladesh has failed to do so. In 1999, the AFL-CIO filed a petition seeking withdrawal or suspension of GSP benefits for Bangladesh. The TPSC accepted the petition for review, sought public comment on the petition, including whether withdrawal or suspension of benefits is warranted, and conducted a public hearing. The review of the petition was continued until this year; and, as a result, the GSP Subcommittee is considering recommending to the TPSC that duty-free treatment under GSP be withdrawn, suspended, or limited for Bangladesh, pursuant to 19 U.S.C. 2462(d)(1).

II. Opportunity for Public Comment

The GSP Subcommittee has already received comments on whether to withdraw or suspend GSP benefits for Bangladesh. If the Subcommittee recommends to the TPSC that the President limit GSP benefits for Bangladesh products, rather than withdraw or suspend duty-free treatment entirely, the Subcommittee will recommend a list of products for which duty-free treatment under the GSP program should be withdrawn. This notice solicits comments on which products to include on that list. All Public comments must be received by May 12, 2004.

Requirements for Submissions

All submissions must conform to the GSP regulations set forth at 15 CFR Part 2007, except as modified below. In order to facilitate prompt processing of submissions to this notice, USTR strongly urges and prefers electronic e-mail submissions in response to this notice. Hand delivered submissions will not be accepted. These submissions should be single copy transmissions in English with the total submission not to exceed 50 single-spaced standard letter-size pages. E-mail submissions should use the following subject line: “Bangladesh GSP Product Review.” Documents, in English, must be submitted in either of the following formats: WordPerfect (“.WPD”), MSWord (“.DOC”), or text (“.TXT”) files. Documents may not be submitted as electronic image or graphic files or contain imbedded images (for example, “.JPG”, “.PDF”, “.BMP”, or “.GIF”) as these graphic files are generally excessively large and inhibit distribution to the GSP Subcommittee. E-mail submissions containing such files may not be accepted. Supporting documentation submitted as spreadsheets are acceptable as Quattro Pro or Excel files, formatted for printing only on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each and every page of the document. The public version, which does not contain business confidential information, must also be clearly marked at the top and bottom of each and every page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P-” or “BC-” should be followed by the name of the party (government, company, union, association, etc.) which is making the submission.

E-mail submissions should not include separate cover letters or messages in the message area of the e-mail; information that might appear in any cover letter should be included directly in the attached file containing the submission itself, including identifying information on the sender, including sender's e-mail address. The e-mail address for these submissions is FR0052@USTR.GOV. Documents not submitted in accordance with these instructions might not be considered in this review. If unable to provide submissions by e-mail, please contact the GSP Subcommittee to arrange for an alternative method of transmission.

Information submitted will be subject to public inspection shortly after the relevant due dates by appointment with the staff of the USTR public reading room, except for information submitted and properly marked that is granted “business confidential” status pursuant to 15 CFR 2003.6 and other qualifying information submitted in confidence pursuant to 15 CFR 2007.7. Public versions of all documents relating to this review will be available for review after the relevant due date by appointment in the USTR public reading room, 1724 F Street NW., Washington, DC. Appointments may be made from 9:30 a.m. to noon and 1 p.m. to 4 p.m., Monday through Friday, by calling (202) 395-6186.

Steven Falken,
Executive Director for GSP, Chairman, GSP Subcommittee of the Trade Policy Staff Committee.

Annex I: U.S. Imports of GSP-Eligible Items From Bangladesh
[The tariff nomenclature in the U.S. Harmonized Tariff Schedule (HTS) for the subheadings listed below is definitive; the product descriptions in this list are for informational purposes only.]
HTS subheading | Article description | 2003 dollar value
95063900 | Golf equipment (o/than golf footwear) nesoi and parts & accessories thereof | 6,202,138
39239000 | Articles nesoi, for the conveyance or packing of goods, of plastics | 2,694,197
69111037 | Porcelain or china (o/than bone china) household tabl. & kitch.ware in sets in which aggregate val. of arts./US note 6(b) o/$56 n/o $200 | 1,186,144
69111010 | Porcelain or china hotel, restaurant & nonhousehold table and kitchenware | 755,777
41044150 | Crust full grain unsplit/grain split bovine (except buffalo) nesoi and equine hides and skins, nesoi, w/o hair, tanned not further prepared | 479,703
63079098 | National flags and other made-up articles of textile materials, nesoi | 449,253
57029920 | Carpets & other textile floor coverings, not of pile construction, woven, made up, of other textile materials nesoi | 354,411
24012085 | Tobacco, partly or wholly stemmed/stripped, threshed or similarly processed, not from cigar leaf, described in addl. U.S. note 5 to chap 24 | 353,724
94043080 | Sleeping bags, not containing 20% or more by weight of feathers and/or down | 349,637
42010060 | Saddlery and harnesses for animals nesi, (incl. traces, leads, knee pads, muzzles, saddle cloths and bags and the like), of any material | 234,170
96020010 | Unhardened gelatin, worked and articles thereof | 220,421
69111052 | Porcelain or china (o/than bone china) hsehld tabl/kit.ware n/in specif.sets, cups o/$8 but n/o $29/dz, saucers o/$5.25 but n/o $18.75/dz, etc | 205,202
24012083 | Tobacco, partly or wholly stemmed/stripped, threshed or similarly processed, not from cigar leaf, not oriental or turkish, not for cigarett | 155,877
39269098 | Other articles of plastic, nesoi | 122,967
39249055 | Household articles and toilet articles, nesoi, of plastics | 118,667
65069900 | Headgear (other than safety headgear), nesoi, of materials other than rubber, plastics, or furskins, whether or not lined or trimmed | 113,367
69111080 | Porcelain or china (o/than bone china) household tableware & kitchenware, not in specified sets, nesoi | 106,552
46021018 | Baskets and bags of vegetable material, neosi | 89,116
94060080 | Prefabricated buildings, not of wood | 60,515
46021080 | Basketwork and other articles, neosi, of vegetables materials, nesoi | 59,749
46021009 | Baskets and bags of bamboo other than wickerwork | 49,595
69111025 | Bone china household table & kitchenware valued o/$31.50/doz. pcs | 48,704
73269085 | Iron or steel, articles, nesoi | 45,255
03049090 | Frozen fish meat (excluding fillets), other than in bulk or in immediate containers weighing with their contents over 6.8 kg each | 42,842
19059090 | Bakers' wares communion wafers, empty capsules suitable for pharmaceutical use, sealing wafers, rice paper and similar products, nesi | 42,006
35030055 | Gelatin sheets and derivatives, nesoi; isinglass; other glues of animal origin, nesoi | 42,000
94043040 | Sleeping bags, containing 20% or more by weight of feathers and/or down | 41,705
69111045 | Porcelain or china (o/than bone china) household mugs and steins w/o attached pewter lids | 37,392
19041000 | Prepared foods obtained by the swelling or roasting of cereals or cereal products | 32,836
68029300 | Monumental or building stone & arts. thereof, of granite, further worked than simply cut/sawn, nesoi | 29,121
90141090 | Direction finding compasses, other than optical instruments, gyroscopic compasses or electrical | 28,812
69111035 | Porcelain or china (o/than bone china) househld tabl. & kitch.ware in sets in which aggregate val. of arts./US note 6(b) n/o $56 | 27,276
61178085 | Headbands, ponytail holders & similar articles, of textile materials other than containing 70% or more by weight of silk, knitted/crocheted | 25,924
39261000 | Office or school supplies, of plastics | 25,016
39232100 | Sacks and bags (including cones) for the conveyance or packing of goods, of polymers of ethylene | 24,893
44189045 | Builders' joinery and carpentry of wood, including cellular wood panels, nesoi | 24,749
69149080 | Ceramic (o/than porcelain or china) arts. (o/than tableware/kitchenware/household & ornament. arts), nesoi | 23,288
19049001 | Cereals, other than corn, in grain form or form flakes or other worked grain (not flour, groat & meal), pre-cooked or otherwise prepared, nesoi | 21,795
10063090 | Rice semi-milled or wholly milled, whether or not polished or glazed, other than parboiled | 21,416
69111015 | Bone china household table & kitchenware valued n/o $31.50/doz. pcs | 19,635
74181950 | Copper (o/than brass), table kitchen or other household articles and parts thereof, not coated or plated w/precious metals | 17,588
07108070 | Vegetables nesi, uncooked or cooked by steaming or boiling in water, frozen, not reduced in size | 17,108
33074100 | Agarbatti and other odoriferous preparations which operate by burning, to perfume or deodorize rooms or used during religious rites | 16,249
39262090 | Articles of apparel & clothing accessories, of plastic, nesoi | 14,575
69111058 | Porcelain or china (o/than bone china) hsehld tabl/kit ware n/in specif. sets, cups o/$29/dz, saucers o/$18.75/dz, bowls o/$33/dz, etc | 12,983
94055040 | Non-electrical lamps and lighting fixtures nesoi, not of brass | 11,528
20089990 | Fruit nesi, and other edible parts of plants nesi, other than pulp and excluding mixtures, otherwise prepared or preserved, nesi | 11,013
20019045 | Mangoes, prepared or preserved by vinegar or acetic acid | 9,432
74181920 | Copper-zinc alloy (brass), table, kitchen or other household articles and parts thereof, not coated or plated w/precious metals | 9,138
70199050 | Glass fibers (including glass wool), nesoi, and articles thereof, nesoi | 8,458
92059040 | Wind musical instruments, o/than w/elect. sound or ampl., woodwind instruments (o/than bagpipes) | 8,168
09109960 | Spices, nesi | 7,911
56089023 | Hammocks, of cotton | 7,845
64059020 | Disposable footwear, nesoi, designed for one-time use | 7,700
07102940 | Leguminous vegetables nesi, uncooked or cooked by steaming or boiling in water, frozen | 7,173
20019038 | Vegetables (including olives) nesoi, prepared or preserved by vinegar or acetic acid | 6,660
19019090 | Flour-, meal-, starch-, malt extract-or dairy-based food preps not containing cocoa and not containing specific amounts of dairy, nesoi | 6,615
10063010 | Rice semi-milled or wholly milled, whether or not polished or glazed, parboiled | 6,565
46021016 | Baskets and bags of rattan or palm leaf other than wickerwork | 6,520
10062040 | Husked (brown) rice, other than Basmati | 6,434
07133920 | Dried beans nesi, shelled, if entered for consumption from May 1 through August 31, inclusive, in any year | 5,663
62171085 | Headbands, ponytail holders and similar articles, of textile materials containing < 70% by weight of silk, not knit/crochet | 5,432
41079180 | Full grain unsplit bovine (not buffalo) & equine leather, not whole, w/o hair on, nesoi, fancy, prepared after tanning or crusting, not 4114 | 5,245
17049035 | Sugar confections or sweetmeats ready for consumption, not containing cocoa, other than candied nuts or cough drops | 4,723
07112038 | Olives, n/pitted, nesoi | 4,419
63049925 | Wall hangings of jute, excluding those of heading 9404 | 3,997
40159000 | Articles of apparel and clothing accessories, excluding gloves, of vulcanized rubber other than hard rubber | 3,411
17039030 | Molasses, other than cane, imported for (a) the commercial extraction of sugar or (b) human consumption | 3,340
04069025 | Gjetost cheese, made from goats' milk, whey or whey obtained from a mixture of goats' & n/o 20% cows milk, not grated, powdered or processed | 3,084
56089030 | Knotted netting of twine, cordage or rope or other made-up nets (not fish netting and nets) of textile materials (not cotton/manmade mat.) | 2,985
17023040 | Glucose and glucose syrup, not containing fructose or in the dry state less than 20 percent by weight of fructose, nesi | 2,808
07132020 | Dried chickpeas (garbanzos), shelled | 2,795
69139050 | Ceramic (o/than porcelain, china or eartherware) ornamental articles, nesoi | 2,770
46021045 | Basketwork and other articles, neosi, of one or more of bamboo, rattan, willow or wood | 2,762
41044120 | Crust whole bovine hide and skin leather (not upper or lining), w/o hair on, surface n/o 2.6 sq m, tanned but not further prepared | 2,600
10064000 | Broken rice | 2,424
03037500 | Dogfish and other sharks, frozen, excluding fillets, livers, roes and fish meat of 0304 | 2,396
20019060 | Fruits, nuts, and other edible parts of plants, nesi, prepared or preserved by vinegar or acetic acid | 2,198
19023000 | Pasta nesi | 2,100
50079030 | Woven silk fabrics, containing 85 percent or more by weight of silk or silk waste, nesoi | 1,732
39241020 | Plates, cups, saucers, soup bowls, cereal bowls, sugar bowls, creamers, gravy boats, serving dishes and platters, of plastics | 1,501
39241040 | Tableware and kitchenware articles, nesoi, of plastics | 1,070
67010030 | Articles of feathers or down (other than articles & apparel filled or stuffed with feathers/down and worked quills & scapes) | 784
62141010 | Shawls, scarves, mufflers, mantillas, veils and the like, not knitted or crocheted, containing 70% or more silk or silk waste | 660
39264000 | Statuettes and other ornamental articles, of plastics | 389
62160046 | Gloves, mittens & mitts, for sports use, incl. ski & snowmobile, of man-made fibers, not impregnated/coated with plastics or rubber | 315
Source: Compiled from data provided by the U.S. International Trade Commission, Department of Commerce, and Department of Homeland Security.

[FR Doc. 04-8203 Filed 4-9-04; 8:45 am]

BILLING CODE 3190-W3-P